DEPARTMENT OF ENERGY

Federal Energy Regulatory Commission

[Docket Nos. ER04-699-000, ER03-1272-002, ER98-4410-000, ER98-4410-001, ER98-4410-002, EL02-101-000, EL02-101-001, and EL02-101-002]

Entergy Services, Inc., CLECO Power, LLC Dalton Utilities Entergy Services, Inc., Georgia Transmission Corporation, JEA, MEAG Power, Sam Rayburn G&T Electric Cooperative, Inc., Southern Company Services, Inc., City of Tallahassee, FL; Notice of Comment Period

August 6, 2004.

On July 29-30, 2004, the Federal Energy Regulatory Commission (FERC) held a technical conference to discuss issues raised by Entergy Services Inc.'s (Entergy) proposal in Docket No. ER04-699-000 to, among other things, establish an Independent Coordinator of Transmission (ICT), as well as to address additional proceedings currently pending before the Commission that raise issues of transmission access on the Entergy system. Members of the FERC, the Louisiana Public Service Commission, the Arkansas Public Service Commission, the Mississippi Public Service Commission and the Council of the City of New Orleans, as well as the staff of the Public Utilities Commission of Texas, participated in the discussions. In addition, the Commission heard from speakers representing various market participants on Entergy's system.

Any party wishing to provide additional or supplemental comments as a result of issues discussed at the conference should file such comments no later than August 31, 2004. Comments may be filed electronically via the Internet in lieu of filing by paper. See 18 CFR 385.2001(a)(l)(iii) and the instructions on the Commission's Web site at http://www.ferc.gov under the “e-Filing” link. For additional information, please contact Anna Cochrane at (202) 502-6357; anna.cochrane@ferc.gov.

Magalie R. Salas,
Secretary.

[FR Doc. E4-1788 Filed 8-11-04; 8:45 am]

BILLING CODE 6717-01-P